DEPARTMENT OF HOMELAND SECURITY

Coast Guard

[Docket No. USCG-2018-1085]

RIN 1625-AA09

Notice of Availability of Draft Environmental Assessment for the Proposed Construction of Railroad Bridges Across Sand Creek and Lake Pend Oreille at Sandpoint, Bonner County, Idaho.

AGENCY: Coast Guard, DHS.

ACTION: Notice of availability and request for comments; notice of public meetings.

SUMMARY: The United States Coast Guard announces the availability of a draft Environmental Assessment (EA) in accordance with National Environmental Policy Act of 1969 (NEPA), as amended, and the National Historic Preservation Act (NHPA), as amended, for the proposed construction of railroad bridges across Lake Pend Oreille and Sand Creek at Sandpoint, Bonner County, Idaho. The proposed bridges will be built parallel to existing railroad bridges crossing the same waterbodies. As structures over navigable waters of the United States, the proposed bridges will require a Coast Guard Bridge Permit. The Coast Guard is making the draft EA available for public review and requests public comments. In order to ensure the widest dissemination possible, the Coast Guard distributed a separate document announcing this Notice of Availability to a mailing list that includes seasonal residents and visitors to the Lake Pend Oreille region.

DATES: Comments and related material must be submitted to the online docket at http://www.regulations.gov or reach the Docket Management Facility on or before March 25, 2019. See the “Public Participation and Request for Comments” portion of the SUPPLEMENTARY INFORMATION section for further instructions on submitting comments.

ADDRESSES: You may submit comments identified by docket number USCG-2018-1085 using the Federal eRulemaking Portal at http://www.regulations.gov.

See the “Public Participation and Request for Comments” portion of the SUPPLEMENTARY INFORMATION section below for instructions on submitting comments.

FOR FURTHER INFORMATION CONTACT: If you have questions on this notice or the public meetings, please contact Mr. Steven Fischer, District Bridge Manager, Thirteenth Coast Guard District, U.S. Coast Guard; telephone 206-220-7282.

SUPPLEMENTARY INFORMATION:

I. Background, Purpose and Legal Basis

The BNSF Railway Company (BNSF) has proposed to construct a second mainline track and associated bridges across Lake Pend Oreille and Sand Creek parallel to existing BNSF railroad track and bridges in and around Sandpoint, Bonner County, Idaho (Project). The present single-track configuration has become a constraint to efficient rail movement, resulting in congestion on the BNSF main line, rail yards and on sidings as trains await clearance to cross the existing single track bridges. Moreover, trains awaiting an opportunity to cross the bridge often block vehicular traffic at both public and private at-grade rail crossings. The delays attributable to this congestion hinder the timely transport and delivery of people, goods and services to local and regional destinations. According to BNSF, the Project will relieve this congestion and allow for the more efficient movement of trains through the Lake Pend Oreille region. Alternatives considered for the Project include a “No Action Alternative” that simply preserves the status quo and a Proposed Action Alternative that satisfies the purpose and need of the Project. Several additional alternatives including (a) a second main line track placed east of the existing main track line, (b) alternate routes and (c) shifting rail traffic to other railroads were considered and dismissed based on infeasibility or impracticability.

The federal bridge statutes, including the River and Harbors Act of 1899, as amended, the Act of March 23, 1906, as amended, and the General Bridge Act of 1946 (33 U.S.C. 525 et seq.), require that the location and plans of bridges in or over navigable waters of the United States be approved by the Secretary of Homeland Security, who has delegated that responsibility to the Coast Guard. Lake Pend Oreille and Sand Creek are navigable waters of the U.S. as defined in 33 CFR 2.36(a). In exercising these bridge authorities, the Coast Guard considers navigational and environmental impacts, which include historic and tribal effects. The Coast Guard's primary responsibility regarding BNSF's proposed railroad bridges is to ensure the structures do not unreasonably obstruct navigation.

Because the intent of the bridge statutes is to preserve navigation, the Coast Guard's permit authority is limited to the bridge and its essential components including approaches and abutments. Consequently, the Coast Guard does not have the authority to approve or disapprove broader aspects of a project beyond the bridges themselves. For example, if a project sponsor proposes to build a new highway or rail line and the project includes a bridge, the Coast Guard's permit authority is limited to the bridge and its effect upon navigation, but does not extend to the connecting highway or rail line.

The Coast Guard is the lead federal agency for this Project and, as such, responsible for the review of its potential effects on the human environment, including historic properties and tribal impacts, pursuant to NEPA and NHPA. The Coast Guard is therefore required by law to ensure potential environmental effects are carefully evaluated in each bridge permitting decision. As part of this evaluation process, the Coast Guard solicits comments from State and Federal agencies with expertise in, and authority over, particular resources that may be impacted by a project. Additionally, the Coast Guard seeks input from any tribes that may be affected or otherwise have expertise or equities in the Project. Following tribal and expert agency outreach, the Coast Guard revises its evaluation, and then seeks comments from the general public. Agencies that have already participated in the environmental review of this Project include the U.S. Army Corps of Engineers (USACE), the U.S. Fish and Wildlife Service (USFWS), the U.S. Environmental Protection Agency (EPA), Idaho Department of Lands (IDL) and the Idaho Department of Environmental Quality (IDEQ). In addition to the Coast Guard Bridge Permit, this Project requires the following permits:

• An Individual Permit from USACE under Section 404 of the Clean Water Act (33 U.S.C. 1344) and Section 10 of the Rivers and Harbors Act of 1899 (33 U.S.C. 403) to temporarily and permanently discharge rock into water and wetlands, all discharges being associated with construction of the proposed bridges.

• An Encroachment Permit from IDL in accordance with the Idaho Lake Protection Act. BNSF submitted an application for the Encroachment Permit to IDL on February 22, 2018, and IDL subsequently convened two local public hearings on May 23, 2018, to solicit comments from the public. A Final Order approving the application for Encroachment Permit No. L-96-S-0096E was signed June 21, 2018.

• A Section 401 Water Quality Certification, which was issued by IDEQ on September 21, 2018, in accordance with Section 401(a)(1) of the Federal Water Pollution Control Act (Clean Water Act) (33 U.S.C. 1251 et seq.).

On February 26, 2018, USACE and IDL issued respective public notices informing members of the public that BNSF had submitted a joint USACE-IDL application for the Project. During the comment period, the agencies received approximately 5,000 comments in favor of and opposed to the Project. The comments in favor of the Project generally spoke to economic benefits and requests to expedite the environmental review and issue required permits. The opposition comments identified a variety of concerns including, but not limited to, (a) requests to elevate the level of federal environmental review to an Environmental Impact Statement (EIS); (b) the potential for derailments within the Lake Pend Oreille region and preparedness for response to a derailment causing a spill of coal or petroleum products; (c) fugitive coal dust emissions and the effects upon air and water quality; and (d) the potential for increased rail traffic through the Lake Pend Oreille rail corridor. Although this is the Coast Guard's initial effort to obtain public comment for the proposed Project, it has reviewed all previous comments received by IDL and USACE and incorporated that information in the draft EA. Additionally, the comments provided by USACE, EPA, USFWS, IDEQ and the Kootenai Tribe were incorporated in the draft EA, which is now available for public comment.

Based on the information received to date, the Coast Guard has determined that an Environmental Assessment is an appropriate level of environmental documentation for this Project. After consideration of all additional comments, the Coast Guard may issue a Finding of No Significant Impact or may determine the Project will have significant impacts requiring an EIS. If the Coast Guard determines at EIS is required, there will be additional opportunity for public comment in accordance with NEPA procedures for the preparation of an EIS.

We are seeking public input on the Draft EA, including comments on completeness and adequacy of the document, and on other environmental and historic preservation concerns that may be related to the proposed Project. While you may submit any comments to the docket to communicate information or views regarding this Project, please know that we have already considered the comments submitted during the USACE-IDL public comment period, and those comments are now part of the official Coast Guard record for BNSF's Bridge Permit application. We specifically request you submit comments related to relevant information or topics missing from or not adequately addressed in the draft EA, and how we can obtain that information. This includes suggesting analyses and methodologies for use in the Draft EA or possible sources of data or information not included in the Draft EA. The most informative comments for the Coast Guard in making a permit decision are those that provide detailed, resource-specific information about the size, nature or effect of the impacts the bridge permit will have on the human environment. Public comments will be considered in determining the environmental impacts and preparation of a final environmental document.

The East Bonner County Library at 1407 Cedar Street, Sandpoint, Idaho 83864 will maintain a printed copy of the draft EA for public review. The document will be available for inspection at this location between 9 a.m. and 7 p.m. Monday through Thursday and 10 a.m. and 5 p.m. Friday and Saturday, except Federal holidays. The Thirteenth Coast Guard District Bridge Office at 915 2nd Avenue, Seattle, WA 98174-1067 will also maintain a printed copy of the draft EA for public review. The document will be available for inspection at this location between 8 a.m. and 4 p.m., Monday through Friday, except Federal holidays.

II. Public Participation and Request for Comments

The Coast Guard views public participation as essential and will consider all comments and materials received during the comment period. If you submit a comment, please include the docket number identified in this notice, indicate the specific section of the document to which each comment applies and provide a reason for each suggestion or recommendation. Please submit comments through the Federal eRulemaking Portal at http://www.regulations.gov. If your comment or materials cannot be submitted using http://www.regulations.gov, please contact the person noted in the FOR FURTHER INFORMATION CONTACT section of this document for alternate instructions.

Anonymous comments will be accepted. All comments will be posted without change to http://www.regulations.gov and will include any personal information you have provided. For more information about privacy and the docket, you may review a Privacy Act notice regarding the Federal Docket Management system in the March 24, 2005 issue of the Federal Register (70 FR 15086).

Documents mentioned in this notice as being available in this docket and all public comments will be included in our online docket at http://www.regulations.gov and may be viewed by following that website's instructions. Additionally, if you sign up for email alerts, you will be notified when comments are posted.

III. Public Meetings

The Coast Guard intends to hold two public meetings to provide the public opportunity to submit oral and written comments on the draft EA. The two meetings will be held on Wednesday, March 13, 2019 at 8 a.m. and 6 p.m. at the Ponderay Events Center, 401 Bonner Mill Way, Ponderay, Idaho 83852. Each meeting is anticipated to last approximately two hours.

The meetings are open to the public. Those who plan to attend a meeting and wish to present comments may request to do so through the online docket at http://www.regulations.gov, and will be called in order of requests received. Attendees who have not previously made a request to present comments will follow those who have already submitted a request, as time permits. If a large number of persons wish to speak, the presiding officer may be required to limit the time allotted to each speaker. The public meetings may end early if all present wishing to speak have done so.

A transcript of the meetings will be made available for public review approximately 30 days after the meeting. All comments will be incorporated into the official case record. Written comments and related material may also be submitted to Coast Guard personnel identified at that meeting for placement into the docket.

Information on Service for Individuals With Disabilities: For information on facilities or services for individuals with disabilities or to request special assistance at the public meeting contact Mr. Steven Fischer at the telephone number under the FOR FURTHER INFORMATION CONTACT section of this notice.

This notice is issued under the authority of 5 U.S.C. 552 (a).

Dated: January 31, 2019.
Brian L. Dunn,
Chief, Office of Bridge Programs, U.S. Coast Guard.

[FR Doc. 2019-01134 Filed 2-5-19; 8:45 am]

BILLING CODE 9110-04-P